DEPARTMENT OF EDUCATION

[Docket No.: ED-2024-SCC-0119]

Agency Information Collection Activities; Submission to the Office of Management and Budget for Review and Approval; Comment Request; District Survey on Use of Funds Under Title II, Part A

AGENCY: Office of Elementary and Secondary Education (OESE), Department of Education (ED).

ACTION: Notice.

SUMMARY: In accordance with the Paperwork Reduction Act (PRA) of 1995, the Department is proposing a extension without change of a currently approved information collection request (ICR).

DATES: Interested persons are invited to submit comments on or before February 13, 2025.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Marcon Cerdeira, (202) 453-5819.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: District Survey on Use of Funds Under Title II, Part A.

OMB Control Number: 1810-0618.

Type of Review: Extension without change of a currently approved ICR.

Respondents/Affected Public: State, local, and Tribal governments.

Total Estimated Number of Annual Responses: 4,452.

Total Estimated Number of Annual Burden Hours: 13,252.

Abstract: The U.S. Department of Education is requesting clearance for a revision to 1810-0618 in order to continue collecting data annually from school districts about how Title II, Part A funds are used to support authorized activities and improve equitable access to teachers for low-income and minority students; including professional development for teachers, principals, and other school leaders. The reporting requirements are outlined in section 2104(b) of the Elementary and Secondary Education Act (ESEA), as reauthorized by the Every Student Succeeds Act of 2015 (ESSA).

The annual survey will include a state representative sample of traditional school districts, a nationally representative sample of charter school districts, and an annual request for each state to provide a list of districts that receive Title II, Part A funds and each district-s allocated Title II, part A amount. The survey will be sent to district Title II, Part A coordinators and administered using an electronic instrument.

Dated: January 7, 2025.
Kun Mullan,
PRA Coordinator, Strategic Collections and Clearance, Governance and Strategy Division, Office of Chief Data Officer, Office of Planning, Evaluation and Policy Development.

[FR Doc. 2025-00527 Filed 1-13-25; 8:45 am]

BILLING CODE 4000-01-P